SOCIAL SECURITY ADMINISTRATION

Agency Information Collection Activities: Proposed Request and Comment Request

The Social Security Administration (SSA) publishes a list of information collection packages that will require clearance by the Office of Management and Budget (OMB) in compliance with P.L. 104-13 effective October 1, 1995, The Paperwork Reduction Act of 1995. SSA is soliciting comments on the accuracy of the agency's burden estimate; the need for the information; its practical utility; ways to enhance its quality, utility and clarity; and on ways to minimize burden on respondents, including the use of automated collection techniques or other forms of information technology.

Written comments and recommendations regarding the information collection(s) should be submitted to the OMB Desk Officer and the SSA Reports Clearance Officer and at the following addresses:

(OMB), Office of Management and Budget, Attn: Desk Officer for SSA, New Executive Office Building, Room 10230, 725 17th St., NW., Washington, D.C. 20503.

(SSA), Social Security Administration, DCFAM, Attn: Frederick W. Brickenkamp, 1-A-21 Operations Bldg., 6401 Security Blvd., Baltimore, MD 21235.

I. The information collections listed below will be submitted to OMB within 60 days from the date of this notice. Therefore, your comments should be submitted to SSA within 60 days from the date of this publication. You can obtain copies of the collection instruments by calling the SSA Reports Clearance Officer at 410-965-4145, or by writing to him at the address listed above.

1. Modified Benefits Formula Questionnaire, Employer—0960-0477. Form SSA-58 is used by the Social Security Administration (SSA) to verify or disprove a claimant's allegation regarding a pension based on non-covered employment after 1956. It also shows whether that claimant was eligible for the pension before 1986. The respondents are persons who are eligible (after 1985) for both Social Security benefits and a pension from their employer, based on work not covered by SSA.

Number of Respondents: 30,000.

Frequency of Response: 1.

Average Burden Per Response: 20 minutes.

Estimated Annual Burden: 10,000 hours.

2. Application for Survivors Benefits—0960-0062. The information collected on Form SSA-24 is needed to satisfy the “Jointly Prescribed Application” of title 38 USC 5105. The provision requires that survivors who file with SSA or the VA shall be deemed to have filed with both agencies, and that each agency's forms must request information to constitute an application for both SSA and VA benefits. The respondents are survivors of military service veterans filing for Social Security benefits

Number of Respondents: 3,200.

Frequency of Response: 1.

Average Burden Per Response: 15 minutes.

Estimated Annual Burden: 800 hours.

3. Medical Report (Individual With Childhood Impairment)—0960-0102. The information on Form SSA-3827-BK is needed to determine the claimant's physical and mental status prior to making a childhood disability determination. The respondents are medical sources.

Number of Respondents: 12,000.

Frequency of Response: 1.

Average Burden Per Response: 30 minutes.

Estimated Annual Burden: 6,000 hours.

4. Work Activity Report (Self-Employed)—0960-0598. Form SSA-820-F4 is used to determine whether work an individual performs in self-employment is at the substantial gainful activity (SGA) level. An individual's entitlement to benefits ends if he/she demonstrates an ability to perform SGA. The respondents are social security disability beneficiaries and Supplemental Security Income recipients.

Number of Respondents: 100,000.

Frequency of Response: 1.

Average Burden Per Response: 30 minutes.

Estimated Annual Burden: 50,000 hours.

5. Agreement to Sell Property—0960-0127. Form SSA-8060-U3 is used by SSA to document and ensure that individuals or couples who are otherwise eligible for Supplemental Security Income (SSI) payments, but who own in excess of the statutory limit, may receive conditional benefit payments if they agree to dispose of the excess resources and repay any overpayments with the proceeds of the disposition. The form is also used to ensure that the individuals understand their obligations under the agreement. The respondents are individuals (or couples) who are receiving (or will receive) conditional SSI payments.

Number of Respondents: 20,000.

Frequency of Response: 1.

Average Burden Per Response: 10 minutes.

Estimated Annual Burden: 3,333 hours.

6. Reconsideration Disability Report-0960-0144. SSA uses the information collected on Form SSA-3441 to determine if the claimant's medical or vocational situation changed after the initial disability determination, when the claimant requests a reconsideration of a denied disability claim. The form also elicits additional sources of medical and vocational evidence that were not considered in the initial determination. The respondents are disability beneficiaries who request a reconsideration of their claim.

Number of Respondents: 400,000.

Frequency of Response: 1.

Average Burden Per Response: 30 minutes.

Estimated Average Burden: 200,000 hours.

7. Electronic Benefit Verification Information—0960-0595. SSA provides verification of benefits, when requested, to individuals receiving title II and/or title XVI benefits. In order to provide to the public an easy and convenient means of requesting benefit information, SSA has developed an electronic request form that will allow persons to request the information through the Internet. The information collected on the electronic screens will be used by SSA to process the request for a benefit verification statement. To ensure appropriate confidentiality, the statement will be mailed to the recipient/beneficiary address shown in SSA's records. The respondents are title II and XVI recipients/beneficiaries who request benefit verification information using the Internet.

Number of Respondents: 133,920.

Frequency of Response: 1.

Average Burden Per Response: ½ minute.

Estimated Average Burden: 1,116 hours.

8. Statement by School Official About Student's Attendance; Statement to U.S. Social Security Administration By School Outside the United States About Student's Attendance—0960-0090. The information collected on Forms SSA-1371 and SSA-1371-FC is used by SSA to verify a student's alleged full-time attendance at an educational institution, in order to determine the student's eligibility for Social Security student benefits. The respondents are school officials who provide the information on these forms.

Number of Respondents: 5,000.

Frequency of Response: 1.

Average Burden Per Response: 10 minutes.

Estimated Average Burden: 833 hours.

9. Report of Continuing Disability Interview—0960-0072. SSA periodically reviews the cases of individuals who receive Social Security benefits and Supplemental Security Income (SSI) to determine if disability continues. During a review, SSA uses Form SSA-454-BK to collect information on disability. The information on the form is used to update the record of the disabled individual on recent medical treatment, vocational and educational experiences, work activity, and evaluations of potential for return to work. Based on this information and other evidence, SSA makes a determination on whether disability continues or has ended, and if so, when disability ended. The respondents are individuals who receive Social Security or SSI disability benefits, or their representatives.

Number of Respondents: 852,000.

Frequency of Response: 1.

Average Burden Per Response: 30 minutes.

Estimated Annual Burden: 426,000 hours.

II. The information collections listed below have been submitted to OMB for clearance. Your comments on the information collections would be most useful if received by OMB and SSA within 30 days from the date of this publication. You can obtain a copy of the OMB clearance package by calling the SSA Reports Clearance Officer on (410) 965-4145, or by writing to him at the address listed above.

1. Request for Social Security Earnings Information—0960-0525. The Social Security Act provides that a wage earner, or someone authorized by a wage earner, may request Social Security earnings information from the Social Security Administration, using form SSA-7050. SSA uses the information collected on the form to verify that the requestor is authorized to access the earnings record and to produce the earnings statement. The respondents are wage earners and organizations and legal representatives authorized by the wage earner.

Number of Respondents: 61,494.

Frequency of Response: 1.

Average Burden Per Response: 11 minutes.

Estimated Annual Burden: 11,274 hours.

2. Survey of Adults to Determine Public Understanding of Social Security Programs—0960-0612. As a result of the Government Performance and Results Act (GPRA), SSA must measure its progress in achieving Agency-level goals. One of SSA's strategic goals is to “Strengthen public understanding of Social Security programs.” In order to measure its performance in meeting this strategic objective, SSA established the Public Understanding Measurement System (PUMS) which involves surveying the public about their knowledge of Social Security programs. The Gallup Organization has been conducting PUMS surveys, on behalf of SSA, since fiscal year 1999.

For the next series of surveys, SSA has made some modifications to the PUMS survey process to bring it into compliance with its most recent Agency Strategic Plan, Mastering the Challenge, and plans to conduct 22,000 surveys beginning this fall as shown below:

• 1,000 national surveys will be used to determine the FY 2001 performance level; e.g., the percent of Americans knowledgeable about Social Security programs.

• 1,050 national surveys will be used to ensure that SSA has equal data for specific demographic groups (African Americans, Hispanic Americans, and Asian Americans) that have been underrepresented in previous national surveys. This data will be used to improve SSA's public education programs directed to these populations.

• 19,950 “area” surveys will provide area managers with statistically valid local GPRA performance data. This data will be used to measure local progress and to improve SSA public education programs in those areas. This will ensure that SSA's resources are used effectively and that it continues to make progress in meeting its strategic objective.

The respondents will be randomly selected adults residing in the United States.

| National surveys | Area surveys
Number of respondents | 2,050 | 19,950.
Frequency of response | 1 | 1.
Average burden per response | 10.5 minutes | 10.5 minutes.
Estimated annual burden | 359 hours | 3,491 hours.

Dated: September 20, 2001.
Frederick W. Brickenkamp,
Reports Clearance Officer.

[FR Doc. 01-24040 Filed 9-25-01; 8:45 am]

BILLING CODE 4191-02-U